DEPARTMENT OF AGRICULTURE

Forest Service

21st Century Conservation Service Corps Partnership Opportunity

AGENCY: Forest Service, USDA.

ACTION: Notice of interest to participate in the 21st Century Conservation Service Corps.

SUMMARY: The 21st Century Conservation Service Corps (21CSC) National Council is requesting letters of interest from all conservation corps, youth, and veteran programs that would like to be identified as a 21CSC member organization. We are initiating this outreach in order to catalyze the establishment of a 21st Century Conservation Service Corps (21CSC) to engage young Americans and returning veterans in the conservation and stewardship of America's public lands and water. This notice seeks to establish the 21CSC by building upon and leveraging the experience and expertise of existing Federal, State, tribal, local and non-profit conservation and youth corps, and veterans programs. These programs facilitate conservation and restoration service work on public lands to include all governmental entities of cities, counties, States, and the Federal Government, and encourage a new generation of natural resource managers and environmental stewards. All principals of interested organizations are invited to submit a letter of interest that outlines the organization's and/or program's alignment with the criteria in each of the eight 21CSC principles listed below under Supplementary Information. Letters should include the name of your organization; an address and point of contact, including email address; and a description of how your organization or program aligns with all eight principles.

Organizations that respond to this request may be contacted at a later date to provide additional information to support their statements. The 21CSC National Council will oversee the review of all submissions to determine the respondent's alignment with the 21CSC principles. Organizations that are not recognized as 21CSC member organizations may submit new letters of interest. Letters of interest may be submitted up on a rolling basis for consideration as a 21CSC member organization, and will be reviewed and responded to on a rolling basis. Organizations may request to be removed from the 21CSC by submitting a written request to the email or mailing address below. The 21CSC member organizations recognized through this process will be acknowledged by all members' departments and agencies represented in the National Council. National Council membership includes the Departments of Agriculture, Army, Commerce, Interior, and Labor, the Environmental Protection Agency, the President's Council on Environmental Quality, and the Corporation for National and Community Service.

DATES: Letters of interest may be submitted on a rolling basis (maximum 5 pages, double-spaced in Times/New Roman, 12 point type). An interagency team will review submissions as they are received and respond soon thereafter. Organizations may be removed at any time by submitting a written request to the email or mailing address below. Membership will last until new procedures to identify 21CSC member organizations are established.

ADDRESSES: Letters of interest may be submitted electronically to 21CSC@fs.fed.us. If electronic submission is not an option, please send your letter of interest to: USDA Forest Service, RHVR, ATTN: Merlene Mazyck, 1400 Independence Ave. SW., Mailstop Code: 1125, Washington, DC 20250-1125.

FOR FURTHER INFORMATION CONTACT: USDA Forest Service, RHVR, ATTN: Merlene Mazyck, 1400 Independence Ave. SW., Mailstop Code: 1125, Washington, DC 20250-1125 or email 21CSC@fs.fed.us.

Individuals who use telecommunication devices for the deaf (TDD) may call the Federal Information Relay Service (FIRS) at 1-800-877-8339 between 8:00 a.m. and 8:00 p.m., Eastern Standard Time, Monday through Friday.

SUPPLEMENTARY INFORMATION:

21CSC National Council

The implementation of the 21CSC is coordinated by a National Council of representatives from Federal agencies that formalized their mission through the signing a Memorandum of Understanding in January 2013. National Council membership includes leadership from the Departments of the Army, Interior, Agriculture, Commerce, and Labor, Environmental Protection Agency, the President's Council on Environmental Quality, and the Corporation for National and Community Service. The National Council will work to: Support program expansion, including by matching natural resource management needs with 21CSC opportunities and identifying potential sources of funding and other resources; remove barriers and streamline processes for supporting 21CSC programs; Support participant pathways to careers; facilitate technical assistance; develop and support partnerships; coordinate messaging; and ensure national representation.

Background

The 21CSC is a bold national effort to put America's youth and veterans to work protecting, restoring, and enhancing America's Great Outdoors. Recognizing the need for job opportunities for youth and returning veterans, the need for restoration of our natural resources, the need to connect Americans to the country's lands and waters, the need to effectively recruit the next generation of public employees, and the need to develop the next generation of conservation stewards, the Secretary of the Department of Interior, on behalf of the America's Great Outdoors Council, formed a Federal Advisory Committee (FAC) to develop recommendations for the establishment of the 21CSC. The FAC was comprised of representatives from Federal agencies, the outdoor industry, and non-profit youth and conservation corps. In addition to providing recommendations, the FAC also identified 21CSC goals and principles, which were slightly modified and adopted by the Federal 21CSC National Council.

21CSC Goals

1. Build America's future. Through service to America, the 21CSC will develop a generation of skilled workers, educated and active citizens, future leaders, and stewards of natural and cultural resources, communities, and the nation.

2. Put Americans to work. The 21CSC will provide service, training, education, and employment opportunities for thousands of young Americans and veterans, including low income, disadvantaged youth and other youth with limited access to outdoor work opportunities.

3. Preserve, protect, and promote America's greatest gifts. The 21CSC will protect, restore, and enhance public and tribal lands and waters as well as natural, cultural, and historical resources and treasures. With high-quality, cost-effective project work, the 21CSC will increase public access and use while spurring economic development and outdoor recreation.

21CSC Principles

21CSC member organizations must be in alignment with the criteria in each of the following 21CSC Principles:

1. Population served. Program serves young people ages 15-25 and/or military veterans up to age 35. Program may serve young people up to age 29 in an advanced capacity.

2. Participant eligibility. Participants must be a U.S. citizen, national, or lawful permanent residents alien of the United States, meeting the same citizenship requirements as those for serving in AmeriCorps and Public Lands Corps.

3. Emphasis on diversity and inclusion. Participant recruitment should make deliberate outreach efforts to traditionally underserved communities, including low-income and disadvantaged populations.

4. Term of service. Program minimum term of service: 140 hours of on-the-ground, hands-on direct service for full time students and summer only participants; or, 300 hours of on-the-ground, hands-on direct service for non-full time student participants. Program maximum term of service of 3,500 hours of on-the-ground, hands-on direct service, with a limited exception for program elements that require more than 3,500 hours to achieve highly advanced outcomes. Service is compensated (not volunteer). Compensation can be in the form of wages, stipend, educational credit, or other appropriate form.

5. Organization of work. Program organizes its participants as either: (a) Crew-based where participants work collectively and intensely together directly supervised by trained and experienced crew leaders or conservation professionals; or (b) individual or small team-based where participants work individually or in coordinated teams under the direction of conservation professionals on initiatives that require specific skills and dedicated attention.

6. Types of work. Projects include significant outdoor activity and/or include “hands-on” direct impact and/or helps young people connect with America's Great Outdoors. Some programs may include work that is primarily indoors—for example, science, policy or program internships—that have a clear benefit to natural, cultural or historic resources.

7. Participant outcomes. Program provides: a) Job skill development to prepare participants to be successful in the 21st century workforce; b) community skill development to help participants acquire an ethic of service to others and learn to become better resource and community stewards; and c) a connection, improvement or restoration of the natural or cultural/urban environment or a greater understanding of our natural, cultural or historic resources.

8. Leveraged investment. Program leverages public investment through either financial or in-kind support, to the extent possible. Exceptions may be made to support new, smaller, or Federal programs that increase diversity and inclusion.

21CSC Member Organization Benefits & Caveats

Through this “notice of interest” process, all respondents that currently meet each of the criteria listed in all 21CSC principles will be designated as a 21CSC member organization. Designation as a 21CSC member organization is not a commitment of funding or future partnership opportunities, however this designation may result in the following benefits to and limitations for member organizations and the Federal agencies represented on the 21CSC National Council.

1. Access to a national network of 21CSC member organizations.

2. Identification on a Web site as a 21CSC member organization.

3. Ability to utilize the 21CSC brand to promote affiliation as a member organization.

4. Career and youth development opportunities with Federal agencies for participants of member organizations, where available.

5. Opportunities to participate in webinars and other outreach to agency field staff to increase awareness of how agency natural, cultural or historic resource management needs can be supported or met by youth and veterans conservation corps, where appropriate.

6. Neither this announcement, nor letters of interest submitted in response to this announcement, obligates any Federal agency represented on the 21CSC National Council to enter into a contractual agreement with any respondent.

7. Federal agencies represented on the 21CSC National Council reserve the right to establish a partnership based on organizational priorities and capabilities found by way of this announcement or other searches, if determined to be in the best interest of the government.

8. This Notice does not preclude any Federal agencies from entering into agreements or partnerships with non-21CSC organizations.

9. The 21CSC National Council expects that aggregate data from all the participating Federal agencies regarding 21CSC accomplishments will be required for annual Performance Accountability Reports. 21CSC member organizations should be prepared to report informational data and accomplishments outcomes on an annual basis. Data collection may include information such as: Project/program type; project location; project outcomes; participant outcomes; funding amount/resources; age range of participants; number of youth engaged; number of veterans engaged; number of hours participants worked; number of participants converted to jobs, and so forth.

Key Notice Dates & Highlights: An interagency team will review submissions as they are received and respond as quickly as possible. Organizations may be removed at any time by written request. Membership will last until otherwise notified; new information regarding membership will be posted in the Federal Register Notice and on the 21CSC.org Web site. The 21CSC member organizations recognized through this process will be acknowledged by all signatories to the National Council Memorandum of Understanding.

Dated: December 17, 2014.
Leslie A.C. Weldon,
Deputy Chief, National Forest System.

[FR Doc. 2014-29914 Filed 12-19-14; 8:45 am]

BILLING CODE 3411-15-P